DEPARTMENT OF TRANSPORTATION

Federal Highway Administration

[Docket No. FHWA-2024-0029]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) to reinstate an information collection. We published a Federal Register Notice with a 60-day public comment period on this information collection on February 9, 2024. We are required to publish this notice in the Federal Register by the Paperwork Reduction Act of 1995.

DATES: Please submit comments by May 28, 2024.

ADDRESSES: You may submit comments identified by DOT Docket ID Number 0029 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Wendy McAbee, 202-366-5658, Office of Bridges and Structures, Federal Highway Administration, Department of Transportation, 1200 New Jersey Avenue SE, Washington, DC 20590, Monday through Friday, except Federal holidays.

SUPPLEMENTARY INFORMATION: The comments and FHWA's responses to the 60-day notice published February 9, 2024, at 89 FR 9285 are below:

There was one public comment to the Federal Register notice referencing a Consumer Affairs report on roadway pavement conditions nationwide. The comment did not indicate what year the data analyzed for the report was collected nor whether tunnel lane miles were considered in that analysis.

Condition of the roadway wearing surface is collected in the NTI and can be used for analysis and reporting of roadway pavement conditions nationwide. The number of lane miles collected in the NTI is miniscule when compared to the number of lane miles that represent all roadways on the National Highway System (NHS) and would have little effect on the Nation's pavement condition.

Title: National Tunnel Inspection Program.

OMB Control: 2125-0640.

Background: This collection is necessary to meet legislative requirements of Title 23 United States Code section 144, and the Code of Federal Regulations, 23 Highways Part 650, Subpart E—National Tunnel Inspection Standards which require States, Federal Agencies, and Tribal Governments to: (1) perform, and report inventory and element data from, initial, routine, damage, in-depth, and special inspections as appropriate for all highway tunnels on public roads, and (2) report critical findings on highway tunnels. The critical findings information is periodically provided to the FHWA. The tunnel information is used for multiple purposes, including: (1) the determination of the condition of the Nation's tunnels; (2) for various reports to Congress on Tunnel Safety; (3) for conducting oversight of the National Tunnel Inspection Program at the State, Federal agency, and Tribal level; and (4) for strategic national defense needs.

Respondents: 42 States, the District of Columbia, Puerto Rico and 4 Federal agencies. The number of inspections per respondent varies in accordance with the National Tunnel Inspection Standards.

Frequency: Annually.

Estimated Average Burden per Response: The estimated average burden for each tunnel inspection is 40 hours. The estimated average burden for reporting critical findings is 40 hours.

Estimated Total Annual Burden Hours: The annual burden hours associated with this renewal is 15,880 hours. This estimated figure is based on annual instances for tunnel inspections multiplied by 40 hours (13,960 hours); plus 40 hours for follow up on critical findings multiplied by 48 respondents (1,920 hours) for a combined annual burden of 15,880 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: April 22, 2024.
Jazmyne Lewis,
Information Collection Officer.

[FR Doc. 2024-08867 Filed 4-24-24; 8:45 am]

BILLING CODE 4910-22-P